DEPARTMENT OF THE INTERIOR

Bureau of Land Management

[WO-310-1310-PB-24 1A]

Extension of Approved Information Collection, OMB Control Number 1004-0134

AGENCY: Bureau of Land Management, Interior.

ACTION: Notice and request for comments.

SUMMARY: In accordance with the Paperwork Reduction Act of 1995, the Bureau of Land Management (BLM), is requesting the Office of Management and Budget (OMB) to extend an existing approval to collect certain information from operators and operating rights owners of Federal and Indian (except Osage) oil and gas leases. We collect nonform information to determine whether BLM may approve proposed operations and to enable us to monitor compliance with terms and conditions of approved operations. Approvals include drilling plans, prevention of waste, protection of resources, development of a lease, measurements, production verification, and protection of public health and safety.

DATES: You must submit your comments to BLM at the address below on or before April 11, 2003. BLM will not necessarily consider any comments received after the above date.

ADDRESSES: You may mail comments to: Bureau of Land Management, (WO-630), Eastern States Office, 7450 Boston Blvd., Springfield, Virginia 22153.

You may send comments via Internet to: WOComment@blm.gov. Please include “ATTN: 1004-0134” and your name and return address in your Internet message.

You may deliver comments to the Bureau of Land Management, Administrative Record, Room 401, 1601 L Street, NW., Washington, DC.

All comments will be available for public review at the L Street address during regular business hours (7:45 a.m. to 4:15 p.m.), Monday through Friday.

FOR FURTHER INFORMATION CONTACT: You may contact Barbara Gamble, Fluid Minerals Group, on (202) 452-0338 (Commercial or FTS). Persons who use a telecommunications device for the deaf (TDD) may call the Federal Information Relay Service (FIRS) on 1-800-877-8330, 24 hours a day, seven days a week, to contact Ms. Gamble.

SUPPLEMENTARY INFORMATION: 5 CFR 1320.12(a) requires that we provide a 60-day notice in the Federal Register concerning a collection of information to solicit comments on:

(a) Whether the collection of information is necessary for the proper functioning of the agency, including whether the information will have practical utility;

(b) The accuracy of our estimates of the information collection burden, including the validity of the methodology and assumptions we use;

(c) Ways to enhance the quality, utility, and clarity of the information collected; and

(d) Ways to minimize the burden of the collection of information on those who are to respond, including the use of appropriate automated, electronic, mechanical, or other technological collection techniques or other forms of information technology.

The Federal Oil and Gas Royalty Management Act of 1982 (30 U.S.C. 1701 et seq.); the Mineral Leasing Act of 1920, as amended (30 U.S.C. 181 et seq.); the Mineral Leasing Act for Acquired Lands of 1947, as amended (30 U.S.C. 351-359); the various Indian leasing acts; and the National Environmental Policy Act of 1969 (NEPA), as amended (42 U.S.C. 4321 et seq.), and BLM's implementing regulations at 43 CFR part 3160 require affected Federal and Indian (except Osage) oil and gas operators and operating rights owners to maintain records and submit nonform information.

The recordkeeping and nonform information items required under various provisions of 43 CFR part 3160 pertain to data the operator or operating rights owner must submit. We will use the information the operator or operating rights owner provides to approve proposed operations and to enable us to monitor compliance with terms and conditions of approved operations. The specific requirements are listed by regulation section.

The information we require under 43 CFR part 3160 covers a broad range of possible operations, and rarely will any specific operator have to obtain or provide each item. Many of the requirements are one-time filings used to gain approval to conduct a variety of oil and gas operations. Others are routine data the operating rights owners or operators submit that we use to monitor production and ensure compliance with lease terms, regulations, Orders, Notices to Lesses, and conditions of approval. We use production information from each producing lease to verify volumes and disposition of oil and gas produced on Federal and Indian lands. All recordkeeping burdens are associated with the nonform items requested.

Based on our experience managing the activities described above, we estimate the public reporting burden of each provision for the information collection, including recordkeeping, ranges from 10 minutes to 16 hours per response, depending on which information is required. The respondents are operators and operating rights owners of Federal and Indian (except Osage) oil and gas leases. The frequency of response varies from one-time only to occasionally to routine, depending on activities conducted on oil and gas leases and on operational circumstances. We estimate 193,855 responses per year and a total annual burden of 96,885 hours. The table below summarizes our estimates.

Information collection (43 CFR) | Requirement | Hours per response | Respondents | Burden hours
3162.3-1(a) | Well-Spacing Program | .5 | 150 | 75
3162.3-1(e) | Drilling Plans | 8 | 2,875 | 23,000
3162.6 | Well Markers | .5 | 300 | 150
3162.5-2(b) | Direction Drilling | 1 | ¹ 165 | 165
3162.4-2(a) | Drilling Tests, Logs, Surveys | 1 | ² 330 | 330
3162.3-4(a) | Plug and Abandon for Water Injection | 1.5 | 1,200 | 1,800
3162.3-4(b) | Plug and Abandon for Water Source | 1.5 | 1,200 | 1,800
3162.7-1(d) | Additional Gas Flaring | 1 | 400 | 400
3162.5-1(c) | Report of Spills, Discharges, or Other Undesirable Events | 2 | 200 | 400
3162.5-1(b) | Disposal of Produced Water | 2 | 1,500 | 3,000
3162.5-1(d) | Contingency Plan | 16 | 50 | 800
3162.4-1(a) and 3162.7-5(d)(1) | Schematic/Facility Diagrams | 4 | 2,350 | 9,400
3162.7-1(b) | Approval and Reporting of Oil in Pits | .5 | 520 | 260
3164.1 (Order No. 3) | Prepare Run Tickets | .2 | 90,000 | 18,000
3162.7-5(b) | Records on Seals | .2 | 90,000 | 18,000
3165.1(a) | Application for Suspension | 8 | 100 | 800
3165.3(b) | State Director Review | 16 | 100 | 1,600
3162.7-5(c) | Site Security | 7 | 2,415 | 16,905
Totals |  |  | 193,855 | 96,885
¹ Or 5% of wells.
² Or 10% of wells.

The respondents already maintain the types of information collected for their own recordkeeping purposes and need only submit the required information. This approval includes all information collections under 43 CFR part 3160 that do not require a form.

BLM will summarize all responses to this notice and include them in the request for OMB approval. All comments will become a matter of public record.

Dated: February 3, 2003.
Michael H. Schwartz,
Bureau of Land Management, Information Collection Clearance Officer.

[FR Doc. 03-3260 Filed 2-7-03; 8:45 am]

BILLING CODE 4310-84-M